DEPARTMENT OF THE INTERIOR

Bureau of Land Management

[BLM_NF_FRN_MO4500178506]

Notice of Availability of the Draft Resource Management Plan Amendment and Environmental Impact Statement for the GridLiance West Core Upgrades Transmission Line Project in Nye and Clark Counties, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Draft Resource Management Plan (RMP) Amendment and Draft Environmental Impact Statement (EIS) for the GridLiance West Core Upgrades Transmission Line Project and by this notice is providing information announcing the opening of the comment period on the Draft RMP Amendment/EIS.

DATES: This notice announces the opening of a 90-day comment period for the Draft RMP Amendment/EIS beginning with the date following the Environmental Protection Agency's (EPA) publication of its Notice of Availability (NOA) in the Federal Register. The EPA usually publishes its NOAs on Fridays.

To afford the BLM the opportunity to consider comments in the Proposed RMP Amendment/Final EIS, please ensure your comments are received prior to the close of the 90-day comment period or 15 days after the last public meeting, whichever is later.

The BLM will hold two public meetings. One meeting will be held at the Pahrump Nugget Hotel and Casino, 681 NV-160, Pahrump, NV 89048 on Thursday, May 9, 2024 from 6 p.m. to 8 p.m. Pacific Time. A second meeting will be held virtually via Zoom on Tuesday, May 7, 2024 at 6 p.m. to 8 p.m. Pacific Time. Additional information on the meetings, including how to register, can be found on the BLM National NEPA Register at: https://eplanning.blm.gov/eplanning-ui/project/2025248/510.

ADDRESSES: The Draft RMP Amendment/EIS is available for review on the BLM National NEPA Register at https://eplanning.blm.gov/eplanning-ui/project/2025248/510.

Written comments related to the GridLiance West Core Upgrades Transmission Line Project may be submitted by any of the following methods:

• Website: https://eplanning.blm.gov/eplanning-ui/project/2025248/510.

• Email: BLM_NV_SNDO_NEPA_Comments@blm.gov.

• Mail: BLM, Southern Nevada District Office, Attn: GridLiance West Core Upgrades Transmission Line Project, 4701 North Torrey Pines Drive, Las Vegas, NV 89130-2301.

Documents pertinent to this proposal may be examined online at https://eplanning.blm.gov/eplanning-ui/project/2025248/510 and at the Southern Nevada District Office.

FOR FURTHER INFORMATION CONTACT: Lisa Moody, Realty Specialist, telephone 702-515-5000; address BLM, Southern Nevada District Office, Attn: GridLiance West Core Upgrades Transmission Line Project, 4701 North Torrey Pines Drive, Las Vegas, NV 89130-2301; email emoody@blm.gov. Individuals in the United States who are deaf, deafblind, hard of hearing, or have a speech disability may dial 711 (TTY, TDD, or TeleBraille) to access telecommunications relay services for contacting Ms. Moody. Individuals outside the United States should use the relay services offered within their country to make international calls to the point-of-contact in the United States.

SUPPLEMENTARY INFORMATION: This document provides notice that the BLM Nevada State Director has prepared a Draft RMP Amendment/EIS and provides information announcing the opening of the comment period on the Draft RMP Amendment/EIS.

The RMP Amendment is being considered to allow the BLM to evaluate the right-of-way (ROW) application submitted by GridLiance LLC to construct, operate, maintain, and decommission approximately 155 miles of transmission system upgrades across BLM-administered lands, which would require amending the existing 1998 Las Vegas RMP.

The planning area is located in Clark and Nye Counties, Nevada and encompasses approximately 4,309 acres of public land.

Purpose and Need

In accordance with FLPMA, the BLM is authorized to grant ROWs on public lands for systems of generation, transmission, and distribution of electric energy (Section 501(a)(4)). The BLM's purpose and need for this action is to respond to the FLPMA ROW amendment applications submitted by GridLiance under Title V of FLPMA (43 U.S.C. 1761) to construct, operate, maintain, and decommission approximately 155 miles of transmission system upgrades on approximately 4,900 acres in Clark and Nye Counties, Nevada. Proposed changes to the existing ROW grants require a plan amendment to the 1998 Record of Decision for the Approved Las Vegas Resource Management Plan and Final Environmental Impact Statement (the Las Vegas RMP) (BLM 1998), which is analyzed in this Draft EIS.

Propose Action and Alternatives, Including the Preferred Alternative

The BLM has analyzed eight alternatives, including the no action alternative and the Proposed Action.

The Proposed Action is to amend portions of existing BLM ROW grants to construct, operate, maintain, and decommission approximately 155 miles of upgraded alternating current overhead transmission lines on lands administered by the BLM, BIA, DoD, State of Nevada, and Clark County, as well as private lands, in Clark and Nye Counties, Nevada. Authorization of this proposal would require amendments to the Las Vegas RMP to modify some Visual Resource Management class locations. The Project is an upgrade of an existing overhead transmission system that currently consists of a single-circuit 230-kV transmission line system and seven substations. The proposed upgrade consists of four segments:

• Segment 1: Sloan Canyon Switchyard to Trout Canyon Switchyard. Includes upgrades and expansions at both switchyards. This segment would be upgraded to a double-circuit 500-kV transmission line, regardless of the voltage option chosen for the remainder of the system.

• Segment 2: Trout Canyon Switchyard to Wheeler Pass Substation. Includes upgrades and expansion at the Gamebird Substation. This segment would be upgraded to a double-circuit 500-kV (the 500kV option) or a double-circuit 230-kV (the 230-kV option) transmission line.

• Segment 3: Wheeler Pass Substation to Innovation Substation. Includes construction of the Wheeler Pass Substation, potential construction of the Johnnie Corner Substation, and upgrades at the Innovation Substation. Between Wheeler Pass Substation and Johnnie Corner Substation, the transmission line would be upgraded to a double-circuit capable, single-circuit 500-kV (the 500-kV option) or a double-circuit capable, single-circuit 230-kV (the 230-kV option) line; however, the proposed Johnnie Corner Substation would not be constructed if the transmission line is approved by CAISO as 230 kV. The portion from the proposed Johnnie Corner Substation to Innovation Substation would be upgraded to a double-circuit capable, single-circuit 230-kV system, regardless of the voltage option chosen for the remainder of the system.

• Segment 4: Innovation Substation to Northwest Substation. Includes upgrades at the Desert View Substation. This segment would be upgraded to a double-circuit 230-kV transmission line, regardless of the voltage option chosen for the remainder of the system.

Alternatives 1 through 6 each contain modifications to the Proposed Action, such as to the alignment of a particular segment, the types of facilities or structures utilized, or the types of transmission lines to be installed.

Alternative 1 involves a modification of Segment 2. This alternative is identical to the Proposed Action in all ways, including the need for an amendment to the Las Vegas RMP (BLM 1998), with the exception of a reroute that follows the designated utility corridor approximately 0.5 mile farther north before turning west to approach the proposed Wheeler Pass Substation. This alternative route utilizes more of the designated utility corridor and has two less angle structures and two more tangent structures than the Proposed Action.

Alternative 2 involves a modification to Segment 1 to ensure compatibility with the proposed Southern Nevada Supplemental Airport (SNSA) and avoid future potential hazards to air navigation. Alternative 2 is identical to the Proposed Action in all ways, including the need for an amendment to the Las Vegas RMP, with the exception of the following. Alternative 2 involves installation of two single-circuit 500-kV transmission lines with a horizontal conductor configuration. This adjustment would necessitate a 500-foot-wide ROW (a 250-foot-wide ROW for each of the two single-circuit lines), in contrast to the single 275-foot-wide ROW required for the double-circuit configuration for the Proposed Action. The structures associated with Alternative 2 in the airspace constrained area would be single-circuit tubular steel 500-kV H-frame structures and 500-kV horizontal dead-ends.

Alternative 3 is identical to Alternative 2 except it would have a slightly different alignment than Alternative 2. This alternative maintains the upgraded GridLiance transmission line on the north side of the existing double-circuit 230-kV NV Energy transmission line until exiting the SNSA air navigation surfaces. Under this alternative, the acreage and locations where the RMP Amendment would apply would be identical to those described under the Proposed Action.

Alternative 4 involves relocating the Wheeler Pass Substation to an alternative location on privately owned lands. Under this alternative, the RMP Amendment would be the same as described under the Proposed Action, with modifications to bring additional areas into compliance. Design considerations common to the design of Alternative 4 and Alternative 5 include longer tie lines between the existing Pahrump Substation and the proposed Wheeler Pass Substation. Because of this increased distance, double-circuit 230-kV structures would be required to construct the tie lines. There would be no other modifications to the structure types, span lengths, or work areas compared to the Proposed Action.

Alternative 5 involves relocating the Wheeler Pass Substation to an alternative location on BLM-administered lands. Under this alternative, the RMP amendment would be the same as described under the Proposed Action, with modifications to bring additional areas into compliance.

Alternative 6 would be designed and built using tubular transmission structures when the project area passes through: (1) the Ivanpah ACEC; (2) areas designated as critical habitat; and (3) areas where the transmission line route is not parallel with other existing lattice structures. Under this alternative, only structures TC-SC276 to TC-SC290 and TC-SC207 to TC-SC238 would remain as lattice structures, and all others would be tubular transmission structures. Alternative 6 would only be required for the 500-kV option and is not necessary for the 230-kV option.

The BLM further considered five additional alternatives but dismissed these alternatives from detailed analysis as explained in the Draft RMP Amendment/EIS.

The State Director has identified the preferred alternative as the Proposed Action in combination with the modifications proposed in Alternatives 3, 4, and 6. Alternatives 3, 4, and 6, when taken together, were found to best meet the State Director's planning guidance. Alternative 3 would ensure compatibility with the proposed SNSA and avoid crossing the existing double-circuit 230-kV NV Energy transmission line within SNSA air navigation surfaces; Alternative 4 would avoid potential challenges with local government entitlements and land acquisition, as well as reduce long-term impacts to Mojave desert tortoise habitat; and Alternative 6 would further reduce long-term impacts to Mojave desert tortoise habitat.

Mitigation

No mitigation measures have been identified in the Draft RMP Amendment/EIS for the action alternatives. However, the alternatives were developed in order to address potential resource conflicts. Specifically, to avoid creating a hazard to air navigation, Alternatives 2 and 3 would prohibit structure heights from exceeding 130 feet above ground level. Alternative 6 uses tubular transmission structures, (e.g., tubular H-frame, three pole dead-end, or monopole structures) as opposed to lattice structures, in certain locations to minimize impacts on Mojave desert tortoise due to raven predation.

Schedule for the Decision-Making Process

The BLM will provide additional opportunities for public participation consistent with the NEPA and land use planning processes, including a 30-day public protest period and a 60-day Governor's consistency review on the Proposed RMP Amendment. The Proposed RMP Amendment/Final EIS is anticipated to be available for public protest January 2025 with an Approved RMP and Record of Decision in March 2025.

Along with the ROW grant issued by the BLM, GridLiance anticipates needing the following authorizations and permits for the proposed project: construction authorization from the Bureau of Indian Affairs; clearance for survey and construction on Department of Defense lands; biological opinion and incidental take permit(s) from the U.S. Fish and Wildlife Service (USFWS) for Endangered Species Act compliance; USFWS Migratory Bird Treaty Act compliance; USFWS Bald and Golden Eagle Protection Act compliance; section 404 permit from the U.S. Army Corps of Engineers for Clean Water Act compliance; effect concurrence from the Nevada State Historic Preservation Office for National Historic Preservation Act compliance; No Hazard Declaration from the Federal Aviation Administration; Department of Homeland Security consultation regarding military radar; Utilities Environmental Protection Act Permit to Construct from the Public Utilities Commission of Nevada; Rare and Endangered Plant Permit from the Nevada State Division of Forestry; Desert Tortoise and Gila Monster Handling Permit from the Nevada Department of Wildlife; Native Cacti and Yucca Commercial Salvaging and Transportation Permit from the Nevada Division of Forestry; Special Permit for Capture, Removal, or Destruction of Animal Threatened with Extinction from the Nevada Department of Wildlife; Clean Water Act, section 401 Compliance with the Nevada Division of Environmental Protection (NDEP) and Bureau of Water Quality Planning; Notification for Stormwater Management During Construction for the Clean Water Act, section 402 permit for stormwater discharge from NDEP; Groundwater Discharge Permit from NDEP; ROW Occupancy Permit from the Nevada Department of Transportation; Over Legal Size/Load Permit from the Nevada Department of Transportation; Uniform Permit (for transportation of hazardous materials) from the Nevada Department of Public Safety; NDEP Phase 1 Environmental Site Assessment; Clark County Dust Control Permit; Clark County Grading Permit; Clark County Building Permit; Nye County Dust Control Permit; Nye County Grading Permit; and other permits as necessary. Further details on these permitting requirements may be found in the relevant Plans of Development submitted to the BLM by GridLiance.

Public meetings are listed in the DATES section of this notice. The date(s) and location(s) of any additional meetings will be announced at least 15 days in advance through the BLM National NEPA Register, news release, and BLM social media pages.

The BLM will continue to consult with Indian Tribal Nations on a government-to-government basis in accordance with Executive Order 13175, BLM MS 1780, and other Departmental policies. Tribal concerns, including impacts on Indian trust assets and potential impacts to cultural resources, will be given due consideration.

The purpose of public review of the Draft RMP Amendment/EIS is to provide an opportunity for meaningful collaborative public engagement and for the public to provide substantive comments, such as identification of factual errors, data gaps, input on the identified BLM preferred alternative, relevant methods, or scientific studies. You may submit comments at any time during the 90-day comment period by using any of the methods listed in the ADDRESSES section of this notice. The BLM will respond to substantive comments by making appropriate revisions to the EIS or explaining why a comment did not warrant a change.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Jon K. Raby,
State Director.

[FR Doc. 2024-08241 Filed 4-18-24; 8:45 am]

BILLING CODE 4331-21-P